DEPARTMENT OF AGRICULTURE

Natural Resources Conservation Service

Cape Cod Water Resources Restoration Project, Barnstable County, Massachusetts

AGENCY: Natural Resources Conservation Service, USDA.

ACTION: Notice of intent to prepare an environmental impact statement.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, give notice that an environmental impact statement is being prepared for the Cape Cod Watershed, Barnstable County, Massachusetts.

FOR FURTHER INFORMATION CONTACT: Cecil B. Currin, State Conservationist, Natural Resources Conservation Service, 451 West Street, Amherst, MA 01002, 413-253-4351.

SUPPLEMENTARY INFORMATION: The environmental assessment of this federally assisted action indicates that the project may cause significant local, regional, or national impacts on the environment. As a result of these findings, Cecil B. Currin, State Conservationist, has determined that the preparation and review of an environmental impact statement is needed for this project.

Area: Barnstable County, excluding Federal lands.

Sponsors: Barnstable County Commissioners and the Cape Cod Conservation District.

Partners: Massachusetts Division of Marine Fisheries, Massachusetts Coastal Zone Management, all towns on Cape Cod.

Project purposes are watershed protection and fish and wildlife development. Sponsors objectives are to (1) improve water quality for shellfish beds, (2) restore degraded salt marshes and (3) restore anadromous fish passages. Alternatives under consideration to reach these objectives include but are not limited to:

Objective 1: Constructed wetlands, infiltration basins or trenches, dry wells, and sand filters.

Objective 2: Enlarging existing culverts to restore marsh hydrology to pre-restriction conditions; marsh and pit development to provide fish pools in marshes.

Objective 3: Water level control structures, fish ladders, and obstruction removals.

A draft environmental impact statement will be prepared and circulated for review by agencies and the public. The Natural Resources Conservation Service invites participation and consultation of agencies and individuals that have special expertise, legal jurisdiction, or interest in the preparation of the draft environmental impact statement. Further information on the proposed action may be obtained for Cecil B. Currin, State Conservationist, at the above address and telephone.

Signed in Amherst, Massachusetts on June 15, 2005.
Cecil B. Currin,
State Conservationist.

(This activity is listed in the Catalog of Federal Domestic Assistance under No. 10.904—Watershed Protection and Flood Prevention—and is subject to the provisions of Executive Order 12372 which requires intergovernmental consultation with State and local officials.)

[FR Doc. 05-12591 Filed 6-23-05; 8:45 am]

BILLING CODE 3410-16-P